DEPARTMENT OF AGRICULTURE

Agricultural Marketing Service

[Doc. No. AMS-NOP-14-0023; NOP-14-04]

National Organic Program Notice of Request for New Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget for a new information collection: National Organic Program (NOP); Organic Certification Cost-Share Programs.

DATES: Comments on this notice must be received by May 16, 2014 to be assured of consideration.

ADDRESSES: Interested parties are invited to submit written comments concerning this notice. Comments should be submitted online at www.regulations.gov or sent to Melissa Bailey, Ph.D., Director, Standards Division, National Organic Program, AMS/USDA, 1400 Independence Ave. SW., Room 2646-So., Ag Stop 0268, Washington, DC 20250-0268. Written comments responding to this notice should be identified with the document number AMS-NOP-14-0023; NOP-14-04. It is USDA's intention to have all comments concerning this notice, including names and addresses when provided, regardless of submission procedure used, available for viewing on the Regulations.gov Internet site (http://www.regulations.gov). Comments submitted in response to this notice will also be available for viewing in person at USDA/AMS/National Organic Program, 1400 Independence Ave. SW., Room 2646-So. Ag Stop 0268, Washington, DC 20250 from 9 a.m. to 12 noon and from 1:00 p.m. to 4 p.m. Monday through Friday (except official Federal holidays). Persons wanting to visit the USDA South Building to view comments received in response to this notice are requested to make an appointment in advance by calling (202) 720-3252.

FOR FURTHER INFORMATION CONTACT: Melissa Bailey, Ph.D., Director, Standards Division, Telephone: (202) 720-3252; Fax: (202) 205-7808.

SUPPLEMENTARY INFORMATION: Title: National Organic Program (NOP); Organic Certification Cost-Share Programs.

OMB Number: 0581—NEW.

Expiration Date of Approval: Three years from OMB approval date.

Type of Request: New information collection.

Abstract: The information collection requirements in this request are applied only to those State Departments of Agriculture and organic producers and handlers who voluntarily participate in one of two organic certification cost-share programs: The National Organic Certification Cost-Share Program (NOCCSP) or the Agricultural Management Assistance (AMA) Organic Certification Cost-Share Program. The NOCCSP is authorized under section 10606(d)(1) of the Farm Security and Rural Investment Act of 2002 (7 U.S.C. 7901 note), as amended by section 10004(c) of the Agriculture Act of 2014 (2014 Farm Bill; Pub. L. 113-79). Under this authority, USDA is authorized to provide organic certification cost-share assistance through 50 States, the District of Columbia, and five U.S. Territories (herein called “state agencies”). The AMA is authorized under the Federal Crop Insurance Act (FCIA), as amended, (7 U.S.C. 1524). Under the applicable FCIA provisions, USDA is authorized to provide organic certification cost-share assistance through sixteen states: Connecticut, Delaware, Hawaii, Maine, Maryland, Massachusetts, Nevada, New Hampshire, New Jersey, New York, Pennsylvania, Rhode Island, Utah, Vermont, West Virginia, and Wyoming. To prevent duplicate assistance payments, producers participating in the AMA program are not eligible to participate in the producer portion of the NOCCSP.

Each program provides cost-share assistance, through participating state agencies, to organic producers and, in the case of NOCCSP, to organic handlers. Recipients must receive initial certification or continuation of certification to the USDA organic regulations (7 CFR part 205) from a USDA-accredited certifying agent. Reimbursement is currently available at 75 percent of an operation's certification costs, up to a maximum of $750 per year. The information collected from these respondents is needed to ensure that program recipients are eligible for funding and comply with applicable program regulations. Data collected is the minimum information necessary to effectively carry out the requirements of each program.

In accordance with Office of Management and Budget (OMB) regulations (5 CFR part 1320) that implement the Paperwork Reduction Act (44 U.S.C. 3501-3520) (PRA), the information collection requirements associated with the NOP have been previously approved by OMB and assigned OMB control number 0581-0191. A new information collection package is being submitted to OMB for approval of 13,120 hours in total burden hours to cover this new collection for the two organic certification cost-share programs. Upon OMB's approval of this new information collection, the NOP intends to merge this collection into currently approved OMB Control Number 0581-0191. In accordance with 5 CFR part 1320, we have included below a description of the collection and recordkeeping requirements and an estimate of the annual burden on entities who would be required to provide information through these cost-share programs. Upon OMB's approval of this new information collection, the NOP intends to merge this collection into currently approved OMB Control Number 0581-0191.

State agencies who wish to participate in one or, if applicable, both of these organic certification cost-share programs must submit the following:

(a) SF-424, “Application for Federal Assistance,” (approved under OMB collection number 4040-0004) is required to apply for federal assistance.

(b) USDA/AMS-33 Face Page (Agreement Face Sheet). The Agreement Face Sheet sets forth the agreed upon responsibilities of AMS project work. It also indicates the agreed upon grant funding dollar amounts and the beginning date and ending date of the project work and the grant agreement. One copy of this Agreement Face Sheet is required to be returned to AMS with the date and grantee's signature(s).

Estimate of Burden: Public reporting burden for this collection of information under (a) and (b) is estimated to average 2 hours per response.

Respondents: State agencies.

Estimated Number of Respondents: 56 (All 50 States, plus the District of Columbia, the Commonwealth of Puerto Rico, Guam, American Samoa, the U.S. Virgin Islands, and the Commonwealth of the Northern Mariana Islands).

Estimated Total Annual Responses: 56 responses.

Estimated Number of Responses per Respondent: 1 response per respondent.

Estimated Total Annual Burden on Respondents: 112 hours.

(c) SF-270, “Request for Advance or Reimbursement,” (approved under OMB collection number 0348-0004) is required whenever the grantees request an advance or reimbursement of Federal grant funds. AMS expects that at least 112 SF-270 forms (two per state agency) will be submitted per year.

Estimate of Burden: Public reporting burden for this collection of information is estimated to average 2 hours per response.

Respondents: State agencies.

Estimated Number of Respondents: 56.

Estimated Total Annual Responses: 56 responses.

Estimated Number of Responses per Respondent: 2 responses per respondent.

Estimated Total Annual Burden on Respondents: 224 hours.

(d) SF-425, “Federal Financial Report,” (approved under OMB collection number 0348-0061) is required semi-annually to report grantee expenditures.

Estimate of Burden: Public reporting burden for this collection of information is estimated to average 4 hours per response.

Respondents: State agencies.

Estimated Number of Respondents: 56.

Estimated Total Annual Responses: 56 responses.

Estimated Number of Responses per Respondent: 2 responses per respondent.

Estimated Total Annual Burden on Respondents: 448 hours.

(e) Narrative Report is required annually and describes program activities undertaken by the State agency and/or any sub-recipients throughout the funding period.

Estimate of Burden: Public reporting burden for this collection of information is estimated to average 2 hours per response.

Respondents: State agencies.

Estimated Number of Respondents: 56.

Estimated Total Annual Responses: 56 responses.

Estimated Number of Responses per Respondent: 1 response per respondent.

Estimated Total Annual Burden on Respondents: 112 hours.

(f) Spreadsheet of Operations Reimbursed is required semi-annually and lists the producers receiving cost-share payments within the reporting time period.

Estimate of Burden: Public reporting burden for this collection of information is estimated to average 2 hours per response.

Respondents: State agencies.

Estimated Number of Respondents: 56.

Estimated Total Annual Responses: 56 responses.

Estimated Number of Responses per Respondent: 2 responses per respondent..

Estimated Total Annual Burden on Respondents: 224 hours.

Finally, in accordance with 7 CFR 3016.42, state departments of agriculture must retain all records relating to these organic cost-share programs for a period of three years after the final Federal Financial Report has been submitted to the Federal Agency, or until final resolution of any audit finding or litigation, whichever is later. Electronic records retention is acceptable. This is a part of normal business practice.

(g) Producers and/or handlers who wish to participate in these organic certification cost-share programs must submit the following to a given state agency once per year: An application, proof of USDA organic certification, an itemized invoice showing expenses paid to a third-party certifying agent for certification services, and a W-9 tax form. Based on past program participation (7,245 participants in NOCCSP and 2,348 participants in AMA last fiscal year), we believe between 10,000 and 12,000 producers or handlers will participate in these programs.

Estimate of Burden: Public reporting burden for this collection of information is estimated to average 1 hour per response.

Respondents: Organic producers or handlers.

Estimated Number of Respondents: 12,000.

Estimated Total Annual Responses: 12,000 responses.

Estimated Number of Responses per Respondent: 1 response per respondent.

Estimated Total Annual Burden on Respondents: 12,000 hours.

These programs will not be maintained by any other agency, therefore, the requested information will not be available from any other existing records.

AMS is committed to compliance with the Government Paperwork Elimination Act (GPEA) (44 U.S.C. 3540 note), which requires Government agencies in general to provide the public the option of submitting information or transacting business electronically to the maximum extent possible. The SF-424 can be completed electronically and is required to be submitted electronically through www.grants.gov.

The SF-425 and SF-270 forms can be filled out electronically and submitted electronically. The USDA/AMS-33 Face Page requires an original signature and must be submitted by mail. Producers typically will mail their application and associated documentation to the state agencies, though some agencies have streamlined paperwork submission through databases of producers and handlers in a given state.

Comments are invited on: (1) Whether the proposed collection of information is necessary for the proper performance of the functions of the agency, including whether the information will have practical utility; (2) The accuracy of the agency's estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology. Comments may be sent to Melissa Bailey, Ph.D., Director, Standards Division, National Organic Program, Agricultural Marketing Service, U.S. Department of Agriculture, 1400 Independence Ave SW., Room 2648-S Ag Stop 0268, Washington, DC 20250; (202) 720-3252 and FAX (202) 205-7808. All comments received will be available for public inspection during regular business hours at the same address.

All responses to this notice will be summarized and included in the request for OMB approval. All comments will become a matter of public record.

Authority: 7 U.S.C. 6501-6522

Dated: February 28, 2014.
Rex A. Barnes,
Associate Administrator, Agricultural Marketing Service.

[FR Doc. 2014-05809 Filed 3-14-14; 8:45 am]

BILLING CODE 3410-02-P